DEPARTMENT OF TRANSPORTATION

Federal Aviation Administration

14 CFR Part 97

[Docket No. 30620; Amdt. No 3280]

Standard Instrument Approach Procedures, and Takeoff Minimums and Obstacle Departure Procedures; Miscellaneous Amendments

AGENCY: Federal Aviation Administration (FAA), DOT.

ACTION: Final rule.

SUMMARY: This Rule establishes, amends, suspends, or revokes STANDARD Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective August 7, 2008. The compliance date for each SIAP, associated Takeoff Minimums, and ODP is specified in the amendatory provisions.

The incorporation by reference of certain publications listed in the regulations is approved by the Director of the Federal Register as of August 7, 2008.

ADDRESSES: Availability of matters incorporated by reference in the amendment is as follows:

For Examination—

1. FAA Rules Docket, FAA Headquarters Building, 800 Independence Avenue, SW., Washington, DC 20591;

2. The FAA Regional Office of the region in which the affected airport is located;

3. The National Flight Procedures Office, 6500 South MacArthur Blvd., Oklahoma City, OK 73169 or

4. The National Archives and Records Administration (NARA). For information on the availability of this material at NARA, call 202-741-6030, or go to: http://www.archives.gov/federal_register/code_of_federal_regulations/ibr_locations.html.

Availability—All SIAPs and Takeoff Minimums and ODPs are Available online free of charge. Visit nfdc.faa.gov to register. Additionally, individual SIAP and Takeoff Minimums and ODP copies may be obtained from:

1. FAA Public Inquiry Center (APA-200), FAA Headquarters Building, 800 Independence Avenue, SW., Washington, DC 20591; or

2. The FAA Regional Office of the region in which the affected airport is located.

FOR FURTHER INFORMATION CONTACT: Harry J. Hodges, Flight Procedure Standards Branch (AFS-420), Flight Technologies and Programs Divisions, Flight Standards Service, Federal Aviation Administration, Mike Monroney Aeronautical Center, 6500 South MacArthur Blvd., Oklahoma City, OK 73169 (Mail Address: P.O. Box 25082, Oklahoma City, OK 73125) Telephone: (405) 954-4164.

SUPPLEMENTARY INFORMATION: This rule amends Title 14 of the Code of Federal Regulations, Part 97 (14 CFR part 97), by Establishing, amending, suspending, or revoking SIAPS, Takeoff Minimums and/or ODPS. The complete regulators description of Each SIAP and its associated Takeoff Minimums or ODP for an Identified airport is listed on FAA form documents which are Incorporated by reference in this amendment under 5 U.S.C. 552(a), 1 CFR part 51, and 14 CFR part 97.20. The applicable FAA Forms are FAA Forms 8260-3, 8260-4, 8260-5, 8260-15A, and 8260-15B when required by an entry on 8260-15A.

The large number of SIAPs, Takeoff Minimums and ODPs, in addition to their complex nature and the need for a special format make publication in the Federal Register expensive and impractical. Furthermore, airmen do not use the regulatory text of the SIAPs, Takeoff Minimums or ODPs, but instead refer to their depiction on charts printed by publishers of aeronautical materials. This, the advantages of incorporation by reference are realized and publication of the complete description of each SIAP, Takeoff Minimums and ODP listed on FAA forms is unnecessary. This amendment provides the affected CFR sections and specifies the types of SIAPs and the effective dates of the Associated Takeoff Minimums and ODPs. This amendment also identifies the airport and its location, the procedure, and the amendment number.

The Rule

This amendment to 14 CFR part 97 is effective upon publication of each separate SIAP, Takeoff Minimums and ODP as contained in the transmittal. Some SIAP and Takeoff Minimums and textual ODP amendments may have been issued previously by the FAA in a Flight Data Center (FDC) Notice to Airmen (NOTAM) as an emergency action of immediate flight safety relating directly to published aeronautical charts. The circumstances which created the need for some SIAP and Takeoff Minimums and ODP amendments may require making them effective in less than 30 days. For the remaining SIAPS and Takeoff Minimums and ODPS, an effective date at least 30 days after publication is provided.

Further, the SIAPs and Takeoff Minimums and ODPS contained in this amendment are based on the criteria contained in the U.S. Standard for Terminal Instrument Procedures (TERPS). In developing these SIAPS and Takeoff Minimums and ODPs, the TERPS criteria were applied to the conditions existing or anticipated at the affected airports. Because of the close and immediate relationship between these SIAPs, Takeoff Minimums and ODPs, and safety in air commerce, I find that notice and public procedures before adopting these SIAPS, Takeoff Minimums and ODPs are impracticable and contrary to the public interest and, where applicable, that good cause exists for making some SIAPs effective in less than 30 days.

Conclusion

The FAA has determined that this regulation only involves an established body of technical regulations for which frequent and routine amendments are necessary to keep them operationally current. It, therefore—(1) Is not a “significant regulatory action” under Executive Order 12866; (2) is not a “significant rule “ under DOT Regulatory Policies and Procedures (44 FR 11034; February 26,1979); and (3)does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, and Navigation (Air).

Issued in Washington, DC on July 25, 2008.
James J. Ballough,
Director, Flight Standards Service.

Adoption of the Amendment

Accordingly, pursuant to the authority delegated to me, Under Title 14, Code of Federal Regulations, Part 97 (14 CFR part 97) is amended by establishing, amending, suspending, or revoking Standard Instrument Approach Procedures and/or Takeoff Minimums and/or Obstacle Departure Procedures effective at 0902 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

Effective 25 SEP 2008

Galbraith Lake, AK, Galbraith Lake, Takeoff Minimums and Obstacle DP, Orig

Ketchikan, AK, Ketchikan Intl, ILS OR LOC/DME Z RWY 11, Amdt 7,

King Salmon, AK, King Salmon, RNAV (GPS) Y RWY 29, Orig-A, CANCELLED

Scottsdale, AZ, Scottsdale, Takeoff Minimums and Obstacle DP, Amdt 1

Los Angeles, CA, Los Angeles Intl, RNAV (RNP) Z RWY 24L, Orig

Los Angeles, CA, Los Angeles Intl, RNAV (RNP) Z RWY 24R, Orig

Santa Barbara, CA, Santa Barbara Muni, RNAV (GPS) RWY 7, Orig-A

Denver, CO, Centennial, RNAV (GPS) RWY 28, Orig-A

Grand Junction, CO, Grand Junction Rgnl, Takeoff Minimums and Obstacle DP, Amdt 11

Hayden, CO, Yampa Valley, RNAV (GPS) Y RWY 10, Amdt 1

Hayden, CO, Yampa Valley, RNAV (GPS) Z RWY 10, Orig-B, CANCELLED

Hayden, CO, Yampa Valley, RNAV (RNP) Z RWY 10, Orig

Fort Myers, FL, Southwest Florida Intl, NDB RWY 6, Amdt 5, CANCELLED

Fort Myers, FL, Southwest Florida Intl, RADAR-1, Amdt 6, CANCELLED

Fort Myers, FL, Southwest Florida Intl, RADAR-2, Orig, CANCELLED

St. Petersburg-Clearwater, FL, St. Petersburg-Clearwater Intl, ILS OR LOC RWY 17L, ILS RWY 17L (CAT II), Amdt 20

St. Petersburg-Clearwater, FL, St. Petersburg-Clearwater Intl, ILS OR LOC/DME RWY 35R, Amdt 1

St. Petersburg-Clearwater, FL, St. Petersburg-Clearwater Intl, RNAV (GPS) RWY 35R, Amdt 1

Venice, FL, Venice Muni, NDB RWY 31, Amdt 2

Venice, FL, Venice Muni, RNAV (GPS) RWY 13, Orig

Venice, FL, Venice Muni, RNAV (GPS) RWY 31, Orig

Venice, FL, Venice Muni, Takeoff Minimums and Obstacle DP, Amdt 1

Wauchula, FL, Wauchula Muni, NDB RWY 36, Orig, CANCELLED

Canon, GA, Franklin County, RNAV (GPS) RWY 8, Orig

Canon, GA, Franklin County, RNAV (GPS) RWY 26, Orig

Canon, GA, Franklin County, Takeoff Minimums and Obstacle DP, Orig

Claxton, GA, Claxton-Evans County, GPS RWY 9, Orig, CANCELLED

Claxton, GA, Claxton-Evans County, RNAV (GPS) RWY 9, Orig

Claxton, GA, Claxton-Evans County, Takeoff Minimums and Obstacle DP, Orig

Hinesville, GA, Liberty County, NDB-A, Amdt 3, CANCELLED

Hinesville, GA, Liberty County, RNAV (GPS) RWY 32, Orig-A, CANCELLED

Thomasville, GA, Thomasville Rgnl, ILS OR LOC RWY 22, Orig

Thomasville, GA, Thomasville Rgnl, LOC RWY 22, Amdt 4, CANCELLED

Thomasville, GA, Thomasville Rgnl, NDB RWY 22, Amdt 5

Clinton, IA, Clinton Muni, NDB RWY 14, Amdt 5, CANCELLED

Weiser, ID, Weiser Muni, RNAV (GPS)-A, Orig

Weiser, ID, Weiser Muni, Takeoff Minimums and Obstacle DP, Orig

Jeffersonville, IN, Clark Rgnl, ILS OR LOC RWY 18, Amdt 2

Knox, IN, Starke County, RNAV (GPS) RWY 18, Orig

Knox, IN, Starke County, Takeoff Minimums and Obstacle DP, Orig

Knox, IN, Starke County, VOR RWY 18, Amdt 2

Valparaiso, IN, Porter County Muni, RNAV (GPS) RWY 9, Amdt 1

Westminster, MD, Carroll County Rgnl/Jack B. Poage Field, VOR-A, Amdt 1A, CANCELLED

Bangor, ME, Bangor Intl, RADAR-A, Amdt 4B

Charlevoix, MI, Charlevoix Muni, RNAV (GPS) RWY 9, Amdt 1

Hancock, MI, Houghton County Memorial, NDB OR GPS RWY 31, Amdt 11C, CANCELLED

Hancock, MI, Houghton County Memorial, RNAV (GPS) RWY 31, Orig

Sedalia, MO, Sedalia Memorial, Takeoff Minimums and Obstacle DP, Orig

Tarkio, MO, Gould Peterson Muni, RNAV (GPS) RWY 18, Orig

Tarkio, MO, Gould Peterson Muni, RNAV (GPS) RWY 36, Orig

Tarkio, MO, Gould Peterson Muni, Takeoff Minimums and Obstacle DP, Orig

Bay St. Louis, MS, Stennis Intl, RNAV (GPS) RWY 36, Amdt 1

Picayune, MS, Picayune Muni, RNAV (GPS) RWY 18, Amdt 1

Picayune, MS, Picayune Muni, RNAV (GPS) RWY 36, Amdt 1

Prentiss, MS, Prentiss-Jefferson Davis County, RNAV (GPS) RWY 12, Orig

Prentiss, MS, Prentiss-Jefferson Davis County, RNAV (GPS) RWY 30, Amdt 1

Prentiss, MS, Prentiss-Jefferson Davis County, Takeoff Minimums and Obstacle DP, Orig

Helena, MT, Helena Rgnl, ILS OR LOC Y RWY 27, Amdt 2

Helena, MT, Helena Rgnl, ILS OR LOC Z RWY 27, Orig

Helena, MT, Helena Rgnl, LOC/DME BC-C, Amdt 4

Helena, MT, Helena Rgnl, NDB-D, Amdt 3

Helena, MT, Helena Rgnl, RNAV (GPS) RWY 9, Amdt 1

Helena, MT, Helena Rgnl, RNAV (GPS) RWY 23, Orig

Helena, MT, Helena Rgnl, RNAV (GPS) RWY 27, Amdt 1

Helena, MT, Helena Rgnl, Takeoff Minimums and Obstacle DP, Amdt 9

Helena, MT, Helena Rgnl, VOR-A, Amdt 15

Helena, MT, Helena Rgnl, VOR/DME-B, Amdt 7

Broken Bow, NE, Broken Bow Muni, GPS RWY 14, Orig, CANCELLED

Broken Bow, NE, Broken Bow Muni, RNAV (GPS) RWY 14, Orig

Broken Bow, NE, Broken Bow Muni, RNAV (GPS) RWY 32, Amdt1

Kimball, NE, Kimball Muni/Robert E Arraj Field, NDB RWY 28, Amdt 2, CANCELLED

Lincoln, NE, Lincoln, RNAV (GPS) RWY 18, Amdt 1

Lincoln, NE, Lincoln, RNAV (GPS) RWY 36, Amdt 1

Lincoln, NE, Lincoln, Takeoff Minimums and Obstacle DP, Orig

Belmar/Farmingdale, NJ, Monmouth Executive, LOC RWY 14, Orig-A, CANCELLED

Plattsburgh, NY, Plattsburgh Intl, ILS OR LOC RWY 17, Amdt 1C, CANCELLED

Saratoga Springs, NY, Saratoga County, Takeoff Minimums and Obstacle DP, Amdt 3

Ponca City, OK, Ponca City Rgnl, ILS OR LOC/DME RWY 17, Amdt 3

Ponca City, OK, Ponca City Rgnl, RNAV (GPS) RWY 17, Amdt 1

Ponca City, OK, Ponca City Rgnl, RNAV (GPS) RWY 35, Amdt 1

Johnstown, PA, John Murtha Johnstown-Cambria Co, Takeoff Minimums and Obstacle DP, Amdt 4

Monongahela, PA, Rostraver, VOR-A, Amdt 5, CANCELLED

Zelienople, PA, Zelienople Muni, Takeoff Minimums and Obstacle DP, Amdt 3

Walterboro, SC, Lowcountry Rgnl, GPS RWY 23, Orig, CANCELLED

Watertown, SD, Watertown Rgnl, LOC/DME BC RWY 17, Amdt 10

Nashville, TN, Nashville Intl, Takeoff Minimums and Obstacle DP, Amdt 7

Selmer, TN, Robert Sibley, NDB OR GPS RWY 17, Amdt 5, CANCELLED

Selmer, TN, Robert Sibley, RNAV (GPS) RWY 17, Orig

Selmer, TN, Robert Sibley, RNAV (GPS) RWY 35, Orig

Selmer, TN, Robert Sibley, Takeoff Minimums and Obstacle DP, Orig

Castroville, TX, Castroville Muni, NDB RWY 33, Amdt 4, CANCELLED

Port Lavaca, TX, Calhoun County, NDB RWY 14, Amdt 4B, CANCELLED

Victoria, TX, Victoria Rgnl, NDB RWY 12L, Amdt 4C, CANCELLED

Tappahannock, VA, Tappahannock-Essex County, RNAV (GPS) RWY 10, Amdt 1

Tappahannock, VA, Tappahannock-Essex County, RNAV (GPS) RWY 28, Amdt 1

Tomahawk, WI, Tomahawk Regional, RNAV (GPS) RWY 9, Amdt 1

Tomahawk, WI, Tomahawk Regional, RNAV (GPS) RWY 27, Amdt 1

Tomahawk, WI, Tomahawk Regional, Takeoff Minimums and Obstacle DP, Orig

Morgantown, WV, Morgantown Muni-WLB Hart Field, VOR/DME RWY 18, Amdt 7, CANCELLED

Casper, WY, Natrona County Intl, ILS OR LOC RWY 3, Amdt 6

Casper, WY, Natrona County Intl, ILS OR LOC RWY 8, Amdt 25

Casper, WY, Natrona County Intl, RNAV (GPS) RWY 3, Amdt 1

Casper, WY, Natrona County Intl, RNAV (GPS) RWY 8, Amdt 1

Casper, WY, Natrona County Intl, RNAV (GPS) Y RWY 3, Orig, CANCELLED

Cheyenne, WY, Cheyenne Rgnl/Jerry Olson Field, RNAV (GPS) RWY 9, Amdt 1

Cheyenne, WY, Cheyenne Rgnl/Jerry Olson Field, RNAV (GPS) RWY 13, Amdt 1

Cheyenne, WY, Cheyenne Rgnl/Jerry Olson Field, RNAV (GPS) RWY 31, Amdt 1

On July 22, 2008 (73 FR 42520) the FAA published an Amendment in Docket No. 30618, Amdt No. 3278 to Part 97 of the Federal Aviation Regulations under section 97.25 effective September 25, 2008 which is corrected to read as follows:

Barter Island, AK, Barter Island, LRRS, NDB RWY 7, Orig, CANCELLED

[FR Doc. E8-17614 Filed 8-6-08; 8:45 am]

BILLING CODE 4910-13-P